DEPARTMENT OF HOMELAND SECURITY

[Docket No. CISA-2022-0018]

Request To Revise and Extend the Chemical Security Assessment Tool (CSAT) Information Collection Under the Paperwork Reduction Act

AGENCY: Cybersecurity and Infrastructure Security Agency, DHS.

ACTION: 30-Day notice and request for comments.

SUMMARY: The Infrastructure Security Division (ISD) within the Cybersecurity and Infrastructure Security Agency (CISA) will submit the following Information Collection Request (ICR) to the Office of Management and Budget (OMB) for review and clearance in accordance with the Paperwork Reduction Act of 1995. CISA previously published this ICR in the Federal Register on December 27, 2022, for a 60-day comment period. No comments were received for this ICR during the 60-day public comment period. In this notice, CISA solicits public comment concerning this ICR for an additional 30 days.

DATES: Comments are due by May 22, 2023.

ADDRESSES: Written comments and recommendations for this ICR should be sent within 30 days of publication of this notice to www.reginfo.gov/public/do/PRAMain. Find this information collection by selecting “Currently under 30-day Review—Open for Public Comments” or by using the search function.

All submissions received must include the agency name “CISA” and docket number CISA-2022-0018.

Comments that include protected information such as trade secrets, confidential commercial or financial information, Chemical-terrorism Vulnerability Information (CVI),¹ Sensitive Security Information (SSI),² or Protected Critical Infrastructure Information (PCII) ³ should not be submitted to the public docket. Comments containing protected information should be appropriately marked and packaged in accordance with all applicable requirements and submission must be coordinated with the point of contact for this notice provided in FOR FURTHER INFORMATION CONTACT section.

¹ For more information about CVI see 6 CFR 27.400 and the CVI Procedural Manual at www.dhs.gov/publication/safeguarding-cvi-manual.

² For more information about SSI see 49 CFR part 1520 and the SSI Program web page at www.tsa.gov/for-industry/sensitive-security-information.

³ For more information about PCII see 6 CFR part 29 and the PCII Program web page at www.dhs.gov/pcii-program.

FOR FURTHER INFORMATION CONTACT: Annie Hunziker Boyer, 703-603-5000, CISARegulations@cisa.dhs.gov.

SUPPLEMENTARY INFORMATION: The CFATS Program identifies chemical facilities of interest and regulates the security of high-risk chemical facilities through a risk-based approach. The CFATS Program is authorized under the Protecting and Securing Chemical Facilities from Terrorist Attacks Act of 2014 or “CFATS Act of 2014.⁴

⁴ The CFATS Act of 2014 codified the CFATS program into the Homeland Security Act of 2002. See 6 U.S.C. 621 et seq., as amended by Public Law 116-135, Sec. 16007 (2020).

CISA collects the core regulatory data necessary to implement CFATS through the Chemical Security Assessment Tool (CSAT) covered under this collection. For more information about CFATS and CSAT, please visit www.dhs.gov/chemicalsecurity. This information collection (OMB Control No. 1670-0007) will expire on July 31, 2023.⁵

⁵ The currently approved version of this information collection (OMB Control No. 1670-0007) can be viewed at https://www.reginfo.gov/public/do/PRAViewICR?ref_nbr=201905-1670-001.

Public Participation

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques, or other forms of information technology (e.g., permitting electronic submissions of responses).

Analysis

Title of Collection: Chemical Security Assessment Tool.

OMB Control Number: 1670-0007.

Instrument: Top-Screen.

Frequency: “On occasion” and “Other”.

Affected Public: Business or other for-profit.

Number of Respondents: 3,817 respondents (estimate).

Estimated Time per Respondent: 2.04 hours.

Total Annual Burden Hours: 7,785 hours.

Total Annual Burden Cost: $703,829.

Total Annual Burden Cost (capital/startup): $0.

Total Recordkeeping Burden: $0.

Instrument: Security Vulnerability Assessment and Alternative Security Program submitted in lieu of a Security Vulnerability Assessment.

Frequency: “On occasion” and “Other”.

Affected Public: Business or other for-profit.

Number of Respondents: 2,328 respondents (estimate).

Estimated Time per Respondent: 1.4136 hours.

Total Annual Burden Hours: 3,291 hours.

Total Annual Burden Cost: $297,530.

Total Annual Burden Cost (capital/startup): $0.

Total Recordkeeping Burden: $0.

Instrument: Site Security Plan and Alternative Security Program submitted in lieu of a Site Security Plan.

Frequency: “On occasion” and “Other”.

Affected Public: Business or other for-profit.

Number of Respondents: 2,328 (estimate).

Estimated Time per Respondent: 7.845 hours.

Total Annual Burden Hours: 18,262 hours.

Total Annual Burden Cost: $1,651,158.

Total Annual Burden Cost (capital/startup): $0.

Total Recordkeeping Burden: $556,040.

Instrument: CFATS Help Desk.

Frequency: “On occasion” and “Other”.

Affected Public: Business or other for-profit.

Number of Respondents: 12,000 respondents (estimate).

Estimated Time per Respondent: 0.1167 hours.

Total Annual Burden Hours: 1,400 hours.

Total Annual Burden Cost: $126,580.

Total Annual Burden Cost (capital/startup): $0.

Total Recordkeeping Burden: $0.

Instrument: User Registration.

Frequency: “On occasion” and “Other”.

Affected Public: Business or other for-profit.

Number of Respondents: 1,000 respondents (estimate).

Estimated Time per Respondent: 2.5 hours.

Total Annual Burden Hours: 2,500 hours.

Total Annual Burden Cost: $226,035.

Total Annual Burden Cost (capital/startup): $0.

Total Recordkeeping Burden: $0.

Instrument: Identification of Facilities and Assets at Risk.

Frequency: “On occasion” and “Other”.

Affected Public: Business or other for-profit.

Number of Respondents: 2,252 respondents (estimate).

Estimated Time per Respondent: 0.17 hours.

Total Annual Burden Hours: 375 hours.

Total Annual Burden Cost: $33,931.

Total Annual Burden Cost (capital/startup): $0.

Total Recordkeeping Burden: $0.

Robert Costello,
Chief Information Officer, Department of Homeland Security, Cybersecurity and Infrastructure Security Agency.

[FR Doc. 2023-08341 Filed 4-19-23; 8:45 am]

BILLING CODE 9110-9P-P